DEPARTMENT OF HEALTH AND HUMAN SERVICES

Food and Drug Administration

[Docket No. 91G-0253]

Procter & Gamble Co.; Withdrawal of GRAS Affirmation Petition

AGENCY: Food and Drug Administration, HHS.

ACTION: Notice.

SUMMARY: The Food and Drug Administration (FDA) is announcing the withdrawal, without prejudice to a future filing, of a petition (GRASP 1G0373) proposing to affirm that caprenin, a triglyceride derived from the esterification of glycerol with capric, caprylic, and behenic acids, is generally recognized as safe (GRAS) for use as a confectionery fat in soft candy and confectionery coatings.

FOR FURTHER INFORMATION CONTACT: Paulette M. Gaynor, Center for Food Safety and Applied Nutrition (HFS-215), Food and Drug Administration, 200 C St. SW., Washington, DC 20204, 202-418-3079.

SUPPLEMENTARY INFORMATION: In a notice published in the Federal Register of August 8, 1991 (56 FR 37712) (correction published September 3, 1991 (56 FR 43648)), FDA announced that a petition (GRASP 1G0373) had been filed by Procter & Gamble Co., 6300 Center Hill Rd., Cincinnati, OH 45224. This petition proposed that the use of caprenin, a triglyceride derived from the esterification of glycerol with capric, caprylic, and behenic acids, as a confectionery fat in soft candy and confectionery coatings be affirmed as GRAS. Procter & Gamble Co. has now withdrawn the petition without prejudice to a future filing (21 CFR 171.7).

Dated: August 30, 2000.
Alan M. Rulis,
Director, Office of Premarket Approval, Center for Food Safety and Applied Nutrition.

[FR Doc. 00-23883 Filed 9-13-00; 8:45 am]

BILLING CODE 4160-01-F